DEPARTMENT OF HOMELAND SECURITY

Federal Emergency Management Agency

[Docket ID: FEMA-2013-0017; OMB No. 1660-0086]

Agency Information Collection Activities: Submission for OMB Review; Comment Request

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before September 30, 2013.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: National Flood Insurance Program-Mortgage Portfolio Protection Program.

Type of Information Collection: Extension, without change, of a currently approved information collection.

Form Titles and Numbers: None.

Abstract: FEMA needs the information to ensure that insurance companies that join the NFIP's WYO program meet all state and federal requirements for insurance companies; these include a good record and are well rated in their field. There is no other way to obtain this information which is specific to each company that applies to join the NFIP.

Affected Public: Business or other non-profits.

Estimated Number of Respondents: 341.

Estimated Total Annual Burden Hours: 171.

Estimated Cost: There are no recordkeeping, capital, start-up or maintenance costs associated with this information collections.

Dated: August 20, 2013.
Charlene D. Myrthil,
Director, Records Management Division, Mission Support Bureau, Federal Emergency Management Agency, Department of Homeland Security.

[FR Doc. 2013-21076 Filed 8-28-13; 8:45 am]

BILLING CODE 9110-11-P